DEPARTMENT OF HEALTH AND HUMAN SERVICES

National Institutes of Health

National Cancer Institute; Amended Notice of Meeting

Notice is hereby given of a change in the meeting of the Advisory Committee to the Director, National Cancer Institute, May 10, 2001, 12 pm to May 10, 2001, 1 pm, National Cancer Institute, National Institutes of Health, 9000 Rockville Pike, Building 31, Room 11A03, Bethesda, MD 20892 which was published in the Federal Register on April 19, 2001, 66 FR 20152.

The meeting will be held on Thursday, May 24, 2001. The meeting is open to the public.

Dated: May 1, 2001.
LaVerne Y. Stringfield,
Director, Office of Federal Advisory Committee Policy.

[FR Doc. 01-11595 Filed 5-8-01; 8:45 am]

BILLING CODE 4140-01-M